DEPARTMENT OF HEALTH AND HUMAN SERVICES

National Institutes of Health

Proposed Collection; 60-Day Comment Request: STAR METRICS® (Science and Technology for America's Reinvestment: Measuring the EffecTs of Research on Innovation, Competitiveness and Science)

SUMMARY: In compliance with the requirement of Section 3506(c)(2)(A) of the Paperwork Reduction Act of 1995, for opportunity for public comment on proposed data collection projects, the Office of Extramural Research (OER), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Dr. William Duval, Office of Planning, Analysis and Communication, OER, NIH, 6705 Rockledge Drive, Suite 5166, Bethesda, MD 20892, or call non-toll-free number (301) 435-8683, or Email your request, including your address to: William.Duval@mail.nih.gov. Formal requests for additional plans and instruments must be requested in writing.

Comment Due Date: Comments regarding this information collection are best assured of having their full effect if received within 60 days of the date of this publication.

Proposed Collection: STAR METRICS® (Science and Technology for America's Reinvestment: Measuring the EffecTs of Research on Innovation, Competitiveness and Science)—0925-0616—REVISION—Office of Extramural Research (OER), National Institutes of Health (NIH).

Need and Use of Information Collection: The aim of STAR METRICS® is twofold. The goal of STAR METRICS® is to continue to provide mechanisms that will allow participating universities and federal agencies with a reliable and consistent means to account for the number of scientists and staff that are on research institution payrolls, supported by federal funds. In subsequent generations of the program, it is hoped that STAR METRICS® will allow for measurement of science impact on economic outcomes (such as job creation), on knowledge generation (such as citations and patents) as well as on social and health outcomes. We have completed the initial data input and this request will finalize the quarterly data input process.

OMB approval is requested for 1 year. The annualized cost to respondents is estimated to be $50,000. The total estimated annualized burden hours are 1,000.

Estimated Annualized Burden Hours
Instrument | Number of respondents | Number of responses per respondent | Average burden per response (in hours) | Total annual burden hours
Ongoing quarterly data input | 100 | 4 | 2.5 | 1,000

Dated: January 30, 2015.
Lawrence A. Tabak,
Deputy Director, National Institutes of Health.

[FR Doc. 2015-02351 Filed 2-4-15; 8:45 am]

BILLING CODE 4140-01-P